SOCIAL SECURITY ADMINISTRATION

Ticket to Work and Work Incentives Advisory Panel Conference Call

AGENCY: Social Security Administration (SSA).

ACTION: Notice of Teleconference.

DATES: Thursday, October 9, 2003.

Teleconference:

Thursday, October 9, 2003, 4 p.m. to 6 p.m. Eastern time.

Call-in number: 888-390-5183.

Pass code: PANEL.

Leader/Host: Sarah Wiggins Mitchell.

SUPPLEMENTARY INFORMATION: Type of meeting: This teleconference meeting is open to the public. The interested public is invited to participate by calling into the teleconference at the number listed above. Public testimony will not be taken.

Purpose: In accordance with section 10(a)(2) of the Federal Advisory Committee Act, SSA announces this teleconference meeting of the Ticket to Work and Work Incentives Advisory Panel (the Panel). Section 101(f) of Public Law 106-170 establishes the Panel to advise the President, the Congress and the Commissioner of SSA on issues related to work incentives programs, planning and assistance for individuals with disabilities as provided under section 101(f)(2)(A) of the Ticket to Work and Work Incentives Improvement Act of 1999 (TWWIIA). The Panel is also to advise the Commissioner on matters specified in section 101(f)(2)(B) of that Act, including certain issues related to the Ticket to Work and Self-Sufficiency Program established under section 101(a) of that Act.

Agenda: The Panel will deliberate on the implementation of TWWIIA and conduct Panel business. The Panel will be discussing follow-up items and recommendations from the Employment Network Summit, an advice letter regarding Vocational Rehabilitation, and grant programs authorized in TWWIIA.

The agenda for this meeting will be posted on the Internet at http://www.ssa.gov/work/panel/ prior to the teleconference or can be received in advance electronically or by fax upon request.

Contact Information: Records are being kept of all Panel proceedings and will be available for public inspection by appointment at the Panel office. Anyone requiring information regarding the Panel should contact the TWWIIA Panel staff by:

• Mail addressed to Ticket to Work and Work Incentives Advisory Panel Staff, Social Security Administration, 400 Virginia Avenue, SW., Suite 700, Washington, DC 20024;

• Telephone contact with Kristen Breland at (202) 358-6430;

• Fax at (202) 358-6440; or

• E-mail to TWWIIAPanel@ssa.gov.

Dated: September 22, 2003.
Carol Brenner,
Designated Federal Official.

[FR Doc. 03-24335 Filed 9-24-03; 8:45 am]

BILLING CODE 4191-02-P